NATIONAL SCIENCE FOUNDATION

Notice of Permits Issued Under the Antarctic Conservation Act of 1978

AGENCY: National Science Foundation.

ACTION: Notice of permits issued.

SUMMARY: The National Science Foundation (NSF) is required to publish notice of permits issued under the Antarctic Conservation Act of 1978. This is the required notice.

FOR FURTHER INFORMATION CONTACT: Andrew Titmus, ACA Permit Officer, Office of Polar Programs, National Science Foundation, 2415 Eisenhower Avenue, Alexandria, VA 22314; 603-292-4479; email: ACApermits@nsf.gov.

SUPPLEMENTARY INFORMATION: On September 11, 2025, the National Science Foundation published a notice in the Federal Register of a permit application received. The permit was issued on the following date

1. Lynne Talley, Permit No. 2026-001, October 30, 2025.

On September 26, 2025, the National Science Foundation published a notice in the Federal Register of permit applications received. The permits were issued on the following dates

1. Allyson Hindle, Permit No. 2026-007, October 27, 2025.

2. Lee Welhouse, Permit No. 2026-008, October 27, 2025.

Jean C. Allen,
Office Director, Office of Polar Programs.

[FR Doc. 2025-20320 Filed 11-18-25; 8:45 am]

BILLING CODE 7555-01-P